DEPARTMENT OF ENERGY

Federal Energy Regulatory Commission

[Docket No. RP01-159-000]

Midwestern Gas Transmission Company; Notice of Tariff Filing

December 6, 2000.

Take notice that on November 30, 2000, Midwestern Gas Pipeline Company (Midwestern), tendered for filing as part of its FERC Gas Tariff, Second Revised Volume No. 1, Twelfth Revised Sheet No. 5. Midwestern requests an effective date of January 1, 2001.

Midwestern states that Twelfth Revised Sheet No. 5 is being filed in compliance with the March 10, 1998 Stipulation and Agreement filed in Docket No. RP97-149, et al., and approved by the Commission on April 29, 1998 (the GRI Settlement), Gas Research Institute, 83 FERC ¶ 61,093 (1998), order on reh'g, 83 FERC ¶ 61,331 (1998), an the Commission's Letter Order approving the Gas Research Institute's Year 2001 Research, Development and Demonstration Program and 2001-2005 Five-Year Plan issued on September 19, 2000 in Docket No. RP00-313. Midwestern further states that the revised tariff sheets revise the Gas Research Institute surcharges for 2001.

Any person desiring to be head or to protest said filing should file a motion to intervene or a protest with the Federal Energy Regulatory Commission, 888 First Street, NE., Washington, DC 20426, in accordance with Sections 385.214 and 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://ww.ferc.fed.us/efi/doorbell.htm.

David P. Boergers,
Secretary.

[FR Doc. 00-31555 Filed 12-11-00; 8:45 am]

BILLING CODE 6717-01-M